NATIONAL SCIENCE FOUNDATION

Advisory Committee for Polar Programs; Notice of Meeting

In accordance with the Federal Advisory Committee Act (Pub. L. 92-463, as amended), the National Science Foundation (NSF) announces the following meeting:

Name and Committee Code: Advisory Committee for Polar Programs (1130).

Date and Time: October 19, 2017, 2:00 p.m.-6:00 p.m., October 20, 2017, 9:00 a.m.-2:00 p.m.

Place: National Science Foundation, 2415 Eisenhower Avenue, Alexandria, Virginia 22314, Room C 2010 (October 19) and E 2020 (October 20).

Type of Meeting: Open.

Contact Person: Andrew Backe, National Science Foundation, Room W 7134, 2415 Eisenhower Avenue, Alexandria, Virginia 22314; Phone 703-292-2454.

Minutes: May be obtained from the contact person listed above.

Purpose of Meeting: To provide advice and recommendations to the National Science Foundation concerning support for polar research, education, infrastructure and logistics, and related activities.

Agenda

October 19, 2017; 2 p.m.-6:00 p.m.

• Opening Remarks and Introductions

• Harassment Policy

• Polar Data/Cyberinfrastructure

• Antarctic Infrastructure Modernization for Science (AIMS)

• Strategic Planning—Part 1

October 20, 2017; 9 a.m.-2 p.m.

• Community Engagement in Research in Alaska

• Navigating the New Arctic

• Strategic Planning—Part 2

• Meeting with the NSF Director and COO

• Thwaites Project

• Wrap-up and Action Items

Dated: September 18, 2017.
Crystal Robinson,
Committee Management Officer.

[FR Doc. 2017-20123 Filed 9-20-17; 8:45 am]

BILLING CODE 7555-01-P